DEPARTMENT OF TRANSPORTATION

Federal Aviation Administration

Seventy-Third Meeting, RTCA Special Committee 159: Global Positioning System (GPS)

AGENCY: Federal Aviation Administration (FAA), DOT.

ACTION: Notice of RTCA Special Committee 159 meeting.

SUMMARY: The FAA is issuing this notice to advise the public of a meeting of RTCA Special Committee 159: Global Positioning System (GPS).

DATES: The meeting will be held September 17-21, 2007, from 9 a.m. to 4:30 p.m. (unless stated otherwise).

ADDRESSES: The meeting will be held at RTCA, Inc., 1828 L Street, NW., Suite 805, Washington, DC 20036.

FOR FURTHER INFORMATION CONTACT: RTCA Secretariat, 1828 L Street, NW., Suite 805, Washington, DC 20036; telephone (202) 833-9339; fax (202) 833-9434; Web site http://www.rtca.org.

SUPPLEMENTARY INFORMATION: Pursuant to section 10(a)(2) of the Federal Advisory Committee Act (Pub. L. 92-463, 5 U.S.C., Appendix 2), notice is hereby given for a Special Committee 159 meeting. The plenary agenda will include:

• September 17:

• All Day, Working Group 2C, GPS/Inertial, MacIntosh-NBAA Rom & Hilton-ATA Room.

• All Day, Working Group 8, GPS/GRAS, Garmin Room.

• Afternoon (1-4:30 p.m.), Working Group 6, GPS/Interference, Colson Board Room.

• September 18:

• All Day, Working Group 2, Wide Area Augmentation System (GPS/WAAS), Colson Board Room.

• All Day, Working Group 4, Precision Landing Guidance (GPS/LAAS), MacIntosh-NBAA Room & Hilton-ATA Room.

• All Day, Working 6, GPS/Interference, ARINC Room.

• September 19:

• Morning (9-12 p.m.), Working Group 2, Wide Area Augmentation System (GPS/WAAS), Colson Board Room.

• Morning (9 a.m.-12 p.m.), Working Group 4, Precision Landing Guidance (GPS/LAAS), MacIntosh-NBAA Room & Hilton-ATA Room.

• Morning (9-12 p.m.), Working Group 6, GPS/Interference, ARINC Room.

• Afternoon (1-4:30 p.m.), Joint Working Groups 2, 4, 6, 7 & 8, MacIntosh-NBAA Room & Hilton-ATA Rom. Note: Agenda for this session—Pre-FRAC discussion on the revised DO-235A.

• September 20:

• Morning (9-12 p.m.), Working Group 4, Precision Landing Guidance (GPS/LAAS), MacIntosh-NBAA Room & Hilton-ATA Room.

• Morning (9-12 p.m.), Working Group 7, GPS/Antennas, Colson Board Room.

• Morning (9-12 p.m.), Working Group 8, GPS/GRAS, Garmin Room.

• Afternoon (1-4:30 p.m.), Working Groups, 2, 4, 6, 7, & 8, MacIntosh-NBAA Room & Hilton-ATA Room. Note: Agenda for this session—Discussion on future documents, Terms of Reference and GPS velocity accuracy characterization for ADS-B.

• September 21:

• Chairman's Introductory Remarks.

• Approval of Summary of the Seventy-Second Meeting held May 4, 2007, RTCA Paper No. 110-07/SC159-950.

• Review Working Group (WG) Progress and Identify Issues for Resolution.

• GPS/3nd Civil Frequency (WG-1).

• GPS/WAAS (WG-2).

• GPS/GLONASS (WG-2A).

• GPS/Inertial (WG-2C).

• GPS/Precision Landing Guidance and (WG-4).

• GPS/Airport Surface Surveillance (WG-5).

• GPS/Interference (WG-6).

• GPS/Antennas (WG-7).

• GPS/GRAS (WG-8).

• Review of EUROCAE activities.

• Consider for Approval—new document—Minimum Operational Performance Standards for Ground-Based Regional Augmentation System Airborne Equipment, RTCA Paper No. 148-07/SC 159-951.

• Status/Plan for the Review and Approval of the revised DO-235A-Assessment of Radio Frequency Interference Relevant to the GNSS.

• Closing Plenary Session (Assignment/Review of Future Work, Other Business, Date and Place of Next Meeting).

Attendance is open to the interested public but limited by space availability. With the approval of the chairmen, members of the public may present oral statements at the meeting. Persons wishing to present statements or obtain information should contact the person listed in the FOR FURTHER INFORMATION CONTACT section. Members of the public may present a written statement to the committee at any time.

Issued in Washington, DC, on August 21, 2007.
Francisco Estrada C.,
RTCA Advisory Committee.

[FR Doc. 07-4246 Filed 8-29-07; 8:45 am]

BILLING CODE 4910-13-M